DEPARTMENT OF THE INTERIOR

Bureau of Land Management

[UT-080-1430-ET; UTU 76946]

Public Land Order No. 7482; Partial Opening of Power Site Classification No. 93; Utah

AGENCY: Bureau of Land Management, Interior.

ACTION: Public land order.

SUMMARY: This order opens, subject to the provisions of section 24 of the Federal Power Act, 160.78 acres withdrawn by an Executive Order which established Bureau of Land Management Power Site Classification No. 93. This action will allow for disposal of the lands and retain the power rights to the United States.

EFFECTIVE DATE: June 4, 2001.

FOR FURTHER INFORMATION CONTACT: Peter Kempenich, BLM Vernal Field Office, 170 South 500 East, Vernal, Utah 84078, 435-781-4432.

SUPPLEMENTARY INFORMATION: By virtue of the authority vested in the Secretary of the Interior by the Act of June 10, 1920, section 24, as amended, 16 U.S.C. 818 (1994), and pursuant to the determination of the Federal Energy Regulatory Commission in DVUT-221-000, it is ordered as follows:

1. At 10 a.m. on June 4, 2001, the following described lands withdrawn by the Executive Order dated April 16, 1925, which established Power Site Classification No. 93, will be opened to disposal, subject to the provisions of section 24 of the Federal Power Act, and subject to valid existing rights, the provisions of existing withdrawals, other segregations of record, and the requirements of applicable law:

Salt Lake Meridian

T.1 N., R. 25 E.,

Sec. 3, lots 18 and 19, and SW¼NW¼.

T. 2 N., R. 25 E.,

Sec. 34, NE¼SW¼ and SW¼SW¼.

The areas described aggregate 160.78 acres in Daggett County.

2. The State of Utah has waived its right of selection in accordance with the provisions of section 24 of the Federal Power Act of June 10, 1920, as amended 16 U.S.C. 818 (1994).

Dated: April 11, 2001.
Gale A. Norton,
Secretary of the Interior.

[FR Doc. 01-11119 Filed 5-2-01; 8:45 am]

BILLING CODE 4310-DQ-P